DEPARTMENT OF TRANSPORTATION

Research and Innovative Technology Administration

[Docket Number: RITA-2006-25247]

Request for Public Comments

AGENCY: Research and Innovative Technology Administration (RITA), DOT.

ACTION: Notice and request for comments.

SUMMARY: Pursuant to section 5208 of the Safe, Accountable, Flexible, Efficient Transportation Equity Act: A Legacy for Users (SAFETEA-LU), the Secretary of Transportation, acting through the Administrator of the Research and Innovative Technology Administration (RITA), is developing a 5-year transportation research and development strategic plan. The purpose of this notice is to invite interested parties to review and submit comments on the draft Strategic Research, Development and Technology Plan of the Department of Transportation (DOT). The plan can be found by using the above docket number at http://dms.dot.gov.

DATES: Comments must be received on or before August 9, 2006.

ADDRESSES: You can mail or hand-deliver comments to the U.S. Department of Transportation (DOT), Dockets Management System (DMS). You may submit your comments by mail or in person to the Docket Clerk, Docket No. RITA-2006-25247, U.S. Department of Transportation, 400 Seventh Street, SW., Room PL-401, Washington, DC 20590-0001. Comments should identify the docket number; paper comments should be submitted in duplicate. The DMS is open for examination and copying, at the above address, from 9 a.m. to 5 p.m., Monday through Friday, except federal holidays. If you wish to receive confirmation of receipt of your written comments, please include a self-addressed, stamped postcard with the following statement: “Comments on Docket RITA-2006-25247.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251.

If you wish to file comments using the Internet, you may use the DOT DMS Web site at http://dms.dot.gov. Please follow the online instructions for submitting an electronic comment. You can also review comments online at the DMS Web site at http://dms.dot.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19477-78) or you may review the Privacy Act Statement at http://dms.dot.gov.

FOR FURTHER INFORMATION CONTACT: Lydia E. Mercado, RTD-10, Room 2440, Office of Research, Development & Technology, Research and Innovative Technology Administration, 400 Seventh Street, SW., Washington, DC 20590; (202) 366-3372; Fax No. (202) 366-3671; e-mail: lydia.mercado@dot.gov. Office hours are from 7:30 a.m. to 5 p.m., Monday through Friday, except Federal holidays.

SUPPLEMENTARY INFORMATION:

I. Background

On August 10, 2005, the President signed into law the Safe, Accountable, Flexible, Efficient Transportation Equity Act: A Legacy for Users (SAFETEA-LU) (Pub. L. 109-59, 119 Stat. 1144). Title V, Subtitle B, section 5208(a) requires that the Secretary develop a 5-year transportation research and development strategic plan to guide Federal research and development activities. Furthermore, Section 5208(c)(1) requires that said plan be reviewed by the National Research Council.

A. Content of the Department of Transportation's Strategic Research, Development and Technology Plan (RD&T)

The DOT Strategic RD&T Plan 2006-2010 presents the Department's broad approach to RD&T over the next five years and beyond. The plan describes the strategic goals that are the primary purposes for RD&T; the RD&T strategies the Department will pursue to accomplish these goals; and, for each RD&T strategy, the anticipated funding levels and information the Department expects to gain. Importantly, the plan also identifies the emerging research priorities that the Department intends to pursue over the next several years. The plan incorporates the RD&T programs of all DOT operating administrations and considers how research by other Federal agencies, state DOTs, the private sector, and others contributes to DOT objectives and how unnecessary duplication is avoided.

Plan Development

This Strategic RD&T Plan was developed as part of an ongoing planning process that incorporates multi-year strategic planning, annual program planning, and budget and performance planning across the Department. This process is led by two internal planning bodies: The RD&T Planning Council and the RD&T Planning Team. Through a broad Department-wide process, the RD&T Planning Council has identified a set of RD&T strategies and emerging research priority areas that will advance DOT goals and guide RD&T investments over the next five years. These RD&T strategies and priorities provide the framework for this plan and for RD&T across the Department. As required by SAFETEA-LU, this plan will be reviewed by the National Research Council and incorporate input from a range of stakeholders, including state and local transportation agencies, not-for-profit institutions, academia, and the private sector. This outreach and review process will continue as DOT revises the plan to reflect changing priorities, operating administration mission requirements, and customer needs.

B. RD&T Strategies

Through its RD&T Planning Council, the Department has identified the critical RD&T strategies that will address the relevant factors affecting the Nation's transportation system and advance DOT goals. These overarching strategies serve as the primary research topics for the Department's RD&T programs and activities. DOT's RD&T strategies for the next five years are as follows:

Safety

1. Sponsor and conduct research to understand and address the causal factors and risks in accidents and to anticipate future safety risks in all transportation modes.

2. Sponsor and conduct research to determine the most effective ways of mitigating the consequences of transportation accidents and incidents in all modes.

3. Provide support to safety rulemaking by assessing the potential safety impacts of new transportation technologies, vehicles, concepts, designs, and procedures.

Reduced Congestion

1. Conduct and sponsor research to reduce urban and suburban traffic congestion, freight gateway congestion, and aviation system congestion.

2. Conduct and sponsor research to extend the life of the existing transportation system and improve the durability of infrastructure.

3. Conduct and sponsor research to advance the use of next generation technologies and to make effective use of combinations of modes in moving people and goods.

4. Conduct and sponsor research to improve the planning, operation, and management of surface transportation and aviation services and assets.

5. Conduct and sponsor research to improve transportation services for underserved areas and populations.

6. Advance the Nation's transportation workforce and research capability through capacity building, fellowships, grants, and cooperative research with universities, the private sector, and state and local governments.

Global Connectivity

1. Conduct and sponsor research leading to harmonized international standards, improved cross-border collaboration, and global leadership for U.S. transportation providers.

Environmental Stewardship

1. Conduct and support research to understand the various impacts of transportation activities on the natural and built environment and communities and to advance technologies and concepts to mitigate those impacts.

2. Conduct and support research on ways to improve the environmental review process to achieve the timely delivery of transportation projects.

Security, Preparedness and Response

1. Conduct and support research to reduce the vulnerability of transportation systems and to improve their ability to prepare for and recover from attacks, natural disasters, and emergencies.

2. Conduct and support research to develop technologies and procedures to secure hazardous materials shipments and to assess the risks of hazmat events.

Organizational Excellence

Consistently apply the President's R&D Investment Criteria—relevance, quality, and performance—to all DOT-sponsored and in-house research.

C. Emerging Research Priorities

To support the Department's goals and RD&T strategies, the RD&T Planning Council identified six emerging research priorities to guide research investments both within and beyond the time period covered by this plan. Several of these priorities cut across transportation modes and operating administration mission requirements. The Department's emerging research priorities are as follows:

Human-Automation Interaction. Conduct and support research leading to an increased understanding of human-machine interactions related to safety performance.

Application of Enhanced Transportation Safety Data and Knowledge. Conduct and support efforts to convert the large quantities of data produced by applications of digital technology into useful knowledge that can improve transportation safety.

Congestion Reduction Policy Research and Technologies. Strengthen policy research and analysis into congestion reduction, congestion pricing, and innovative financing, and conduct RD&T to evaluate the effectiveness and market acceptance of traveler and traffic information technologies, products, and services.

System Resilience and Global Logistics. Conduct and support RD&T to identify freight bottlenecks and changing transportation patterns and to develop and implement technologies to enhance the efficiency of cargo flows.

Next Generation Air Transportation System. Provide the knowledge base to achieve greater aviation throughput and capacity; reduce user and service costs, including congestion; increase service productivity; and ensure a safe, secure, and environmentally compatible aviation system.

Energy Efficiency and Alternative Fuels. Conduct and support research to understand the impact of fuel prices and fuel efficiency on mobility, opportunities to improve fuel efficiency, transportation requirements associated with alternative fuel infrastructures, and safety impacts of alternative fuel vehicles.

D. The Strategic RD&T Plan Has the Following Chapters

Chapter 1—Introduction

Chapter 2—Strategic Planning Framework

Chapter 3—RD&T to Improve Transportation Safety

Chapter 4—RD&T to Reduce System Congestion

Chapter 5—RD&T to Enhance Global Connectivity

Chapter 6—RD&T to Support Environmental Stewardship

Chapter 7—RD&T to Ensure Security, Preparedness and Response

Chapter 8—Organizational Excellence in RD&T

Chapter 9—RD&T Coordination

Appendix A—National Research Council Letter Report (to be added)

Appendix B—Stakeholder Input (to be added)

Appendix C—RD&T Funding

Appendix D—Operating Administration advisory committees, stakeholder activities and RD&T plans.

II. Request for Comments

RITA requests comments on any aspect of DOT's Strategic RD&T Plan, including: (1) The relevance of the Department's emerging research priorities to the Nation's most pressing transportation challenges; (2) future directions for Departmental research; and (3) ways to minimize unnecessary research duplication.

Issued in Washington, DC on June 30, 2006.
Ashok Kaveeshwar,
Administrator.

[FR Doc. E6-10926 Filed 7-11-06; 8:45 am]

BILLING CODE 4910-HY-P